ENVIRONMENTAL PROTECTION AGENCY

[FRL-8950-7]

Notice of a Regional Project Waiver of Section 1605 (Buy American) of the American Recovery and Reinvestment Act of 2009 (ARRA) to the Plymouth Village Water & Sewer District, New Hampshire

AGENCY: Environmental Protection Agency (EPA).

ACTION: Notice.

SUMMARY: The EPA is hereby granting a waiver of the Buy America requirements of ARRA Section 1605 under the authority of Section 1605(b)(2) [manufactured goods are not produced in the United States in sufficient and reasonably available quantities and of a satisfactory quality] to the Plymouth Village Water & Sewer District, New Hampshire (“District”) for the purchase of a foreign manufactured rotary sludge dewatering press. This is a project specific waiver and only applies to the use of the specified product for the ARRA project being proposed. Any other ARRA recipient that wishes to use the same product must apply for a separate waiver based on project specific circumstances. The District's proposed wastewater treatment facility improvements will include a replacement of the existing belt filter press for sludge generated at the plant. Based upon information submitted by the District and its consultants, it was determined that a 6 channel rotary press sludge dewatering unit, manufactured by Fournier Industries of Quebec, Canada, will meet the District's design and performance specifications. The Acting Regional Administrator is making this determination based on the review and recommendations of the Municipal Assistance Unit. The District through its design engineer, has provided sufficient documentation to support their request. The Assistant Administrator of the Office of Administration and Resources Management has concurred on this decision to make an exception to Section 1605 of ARRA. This action permits the purchase of a 6 channel rotary press sludge dewatering unit, manufactured by Fournier Industries, by the District, as specified in its June 26, 2009 waiver request, as part of the improvements to the wastewater treatment facility.

DATES: Effective Date: August 17, 2009.

FOR FURTHER INFORMATION CONTACT: Mark Spinale, Environmental Engineer, (617) 918-1547, or Katie Connors, Environmental Engineer, (617) 918-1658, Municipal Assistance Unit (CMU), Office of Ecosystem Protection (OEP), U.S. EPA, One Congress Street, CMU, Boston, MA 02114.

SUPPLEMENTARY INFORMATION: In accordance with ARRA Section 1605(c), the EPA hereby provides notice that it is granting a project waiver of the requirements of Sections 1605(b)(2) of Public Law 111-5, Buy American requirements, to the Plymouth Village Water & Sewer District (“District”), New Hampshire for the purchase of a 6 channel rotary press sludge dewatering unit, manufactured by Fournier Industries of Quebec, Canada. It has been determined that this rotary press meets the District's technical specifications for design and performance of a sludge dewatering unit as part of its wastewater treatment plant improvement project. Based on the information provided by the applicant, there are no domestically manufactured rotary sludge presses at this time that meet the specific design criteria established for this unit in the District's project.

Section 1605 of the ARRA requires that none of the appropriated funds may be used for the construction, alteration, maintenance, or repair of a public building or public work unless all of the iron, steel, and manufactured goods used in the project is produced in the United States, or unless a waiver is provided to the recipient by the head of the appropriate agency, here the EPA. A waiver may be provided if EPA determines that (1) applying these requirements would be inconsistent with public interest; (2) iron, steel, and the relevant manufactured goods are not produced in the United States in sufficient and reasonably available quantities and of a satisfactory quality; or (3) inclusion of iron, steel, and the relevant manufactured goods produced in the United States will increase the cost of the overall project by more than 25 percent.

The District has requested a waiver from the Buy American Provision for the purchase of a foreign made rotary press sludge dewatering unit as part of its wastewater treatment plant improvement project. The purchase of the new rotary sludge press is intended to replace the existing belt filter press which is approaching the end of its useful life. The estimated cost of the overall improvements to the District's wastewater treatment plant is estimated at $5.2 million, of which the cost of the foreign made rotary sludge press unit is priced at $330,000.

The consulting engineers for the District set forth the following key criteria for evaluating sludge dewatering technologies. The various technologies were evaluated based on the ability to:

• Maintain the current annual average dewatered sludge cake solids of approximately 25% or higher.

• Improve environmental working conditions in the dewatering area by minimizing worker exposure to odorous and hazardous gases released from the sludge as well as exposure to bio-aerosols and pathogens. Enclosed dewatering equipment will achieve this goal.

• Automatically adjust for variation in feed solids concentrations and sludge mix ratios to provide consistent and optimum cake solids.

• Allow for unattended, automatic operation freeing up operators for other needed tasks.

• Keep the dewatering operation as simple as possible while still maintaining optimum dewatering performance.

• Allow for some degree of backup capacity during periods of equipment failure and routine maintenance.

• Equipment must have a proven track record of low annual operation and maintenance costs and reliability.

As part of the review of potentially viable sludge dewatering units, four technologies were considered by the District and their consultants: (1) Rotary press; (2) screw press; (3) centrifuge; and (4) belt filter press. Of the four technologies, it was determined that the rotary sludge press is the desired technology because it ranked the highest in terms of meeting the key criteria highlighted above. The rotary press option, for example, has one of the lowest maintenance requirements due to the slow rotational speed, and has one of the highest degrees of redundancy. Low rotational speeds results in less susceptibility to wear from high grit sludge.

The rotary press would have six parallel channels on-line with the ability to take one or two channels off-line for maintenance without having to disrupt treatment operation. The rotary press option also represented the lowest capital cost option that met the District's goals and current and future throughput capacity of 220 pounds/hour per channel for a total capacity of 1,100 pounds per hour, with one additional channel available for redundancy purposes.

The technical memorandum prepared by the District's consulting engineers indicates that the rotary press technology has been use in the Canadian market for a number of years. The technical memorandum further indicates that of the other manufacturers that have similar dewatering units, Fournier Industries is considered the only rotary press manufacturer that meets the design specifications for this proposed project. The project specification requires that “the rotary press shall have the capacity to have 6 channels mounted on the drive shaft with 3 on each side. The sludge shall be continuous feed, and the unit built to operate continuously.” The specifications also state that “the dewatering equipment shall be capable of hydraulic flow capacity range of 5 to 15 gpm per channel, or for a 6 channel unit, 30 to 90 gpm of 3.0 to 5.0% thickened sludge.”

Based on the review of available information, there is only one domestic manufacturer of similar rotary type presses for municipal sludge. However, this manufacturer only produces 1 and 2 channel rotary fan presses and currently cannot meet the design specifications required by this proposed project.

The April 28, 2009 EPA HQ Memorandum, “Implementation of Buy American provisions of Public Law 111-5, the `American Recovery and Reinvestment Act of 2009' ” (“Memorandum”), defines reasonably available quantity as “the quantity of iron, steel, or relevant manufactured good is available or will be available at the time needed and place needed, and in the proper form or specification as specified in the project plans and design.” The same Memorandum defines “satisfactory quality” as “the quality of steel, iron or manufactured good specified in the project plans and designs.”

The District has requested a waiver of the ARRA Buy American provisions on the basis of unavailability of a U.S. manufactured product that will meet the design and performance criteria specified for this sludge dewatering unit. The evaluation of all of the submitted documentation by EPA's technical review team supports the District's claim that at this time no domestic manufacturer can provide a suitable rotary sludge dewatering press which meets the specifications for this unit. Based on the information available, and to the best of our knowledge, there do not appear to be other rotary press sludge dewatering units manufactured in the United States that are available at this time to meet the District's design specifications and performance requirements for this unit.

Furthermore, the purpose of the ARRA is to stimulate economic recovery by funding current infrastructure construction, not to delay projects that are already “shovel ready” by requiring SRF eligible recipients such as the District to revise their design standards and specifications. The imposition of ARRA Buy American requirements in this case would result in unreasonable delay for this project. To delay this construction would directly conflict with a fundamental economic purpose of ARRA, which is to create or retain jobs.

The Municipal Assistance Unit (CMU) has reviewed this waiver request and has determined that the supporting documentation provided by the District established both a proper basis to specify the particular good required and that this manufactured good was not available from a producer in the United States able to meet the design specifications for the proposed project. The information provided is sufficient to meet the following criteria listed under Section 1605(b) of the ARRA and in the April 28, 2009 Memorandum: Iron, steel, and the manufactured goods are not produced in the United States in sufficient and reasonably available quantities and of a satisfactory quality.

The March 31, 2009 Delegation of Authority Memorandum provided Regional Administrators with the authority to issue exceptions to Section 1605 of ARRA within the geographic boundaries of their respective regions and with respect to requests by individual grant recipients.

Having established both a proper basis to specify the particular good required for this project and that this manufactured good was not available from a producer in the United States, the District is hereby granted a waiver from the Buy American requirements of Section 1605(a) of Public Law 111-5. This waiver permits use of ARRA funds for the purchase of the specified Fournier Industries 6 channel rotary press sludge dewatering unit documented in District's waiver request submittal dated June 26, 2009 as part of its wastewater treatment plant improvements. This supplementary information constitutes the detailed written justification required by Section 1605(c) for waivers based on a finding under subsection (b).

Authority: Public Law 111-5, section 1605.

Dated: August 17, 2009.
Ira W. Leighton,
Acting Regional Administrator, EPA Region 1—New England.

[FR Doc. E9-20798 Filed 8-27-09; 8:45 am]

BILLING CODE 6560-50-P